DEPARTMENT OF TRANSPORTATION

Federal Aviation Administration

Noise Exposure Map Notice for John F. Kennedy International Airport, New York City, New York

AGENCY: Federal Aviation Administration, DOT.

ACTION: Notice.

SUMMARY: The Federal Aviation Administration (FAA) announces its determination that the noise exposure maps submitted by the Port Authority of New York and New Jersey for John F. Kennedy International Airport under the provisions of the Aviation Safety and Noise Abatement Act and 14 CFR part 150 are in compliance with applicable requirements.

DATES: The effective date of the FAA's determination on the noise exposure maps is May 19, 2017.

FOR FURTHER INFORMATION CONTACT: Eastern Region Airports Division (AEA-600), Andrew Brooks, Environmental Program Manager, Federal Aviation Administration, AEA-600, 1 Aviation Plaza, Jamaica, New York 11434, Telephone: (718) 553-3330.

SUPPLEMENTARY INFORMATION: This notice announces that the FAA finds that the noise exposure maps submitted for John F. Kennedy International Airport are in compliance with applicable requirements of 14 CFR part 150, effective January 13, 2004. Under 49 U.S.C. Section 47503 of the Aviation Safety and Noise Abatement Act (hereinafter referred to as “the Act”), an airport operator may submit to the FAA noise exposure maps which meet applicable regulations and which depict non-compatible land uses as of the date of submission of such maps, a description of projected aircraft operations during a forecast period that is at least five (5) years in the future, and the ways in which such operations will affect such maps. The Act requires such maps to be developed in consultation with interested and affected parties in the local community, government agencies, and persons using the airport. An airport operator who has submitted noise exposure maps that are found by FAA to be in compliance with the requirements of Federal Aviation Regulations (FAR) Part 150, promulgated pursuant to the Act, may submit a noise compatibility program for FAA approval which sets forth the measures the operator has taken or proposes to take to reduce existing non-compatible uses and prevent the introduction of additional non-compatible uses.

The FAA has completed its review of the noise exposure maps and accompanying documentation submitted by the Port Authority of New York and New Jersey. The documentation that constitutes the “Noise Exposure Maps” (NEM) as defined in Section 150.7 of Part 150 includes a 2016 Base Year NEM, Figure 5-1, and a 2021 Future Year NEM, Figure 5-2, located in Chapter 5 of the NEM Report. Details of the NEM contours are provided by Runway end in Figures 5-3 through 5-6 of Chapter 5. The figures contained within Chapter 5 are scaled to fit within the report context; however, the official, to scale, 2016 Base Year NEM and 2021 Future Year NEM are both located in Appendix M of the official NEM Report submittal. The Noise Exposure Maps contain current and forecast information including the depiction of the airport and its boundaries, the runway configurations, land uses such as single and two-family residential; multi-family residential; mixed residential and commercial; commercial and office; industrial and manufacturing; transportation, parking and utilities; public facilities and institutions; unclassified; open space, cemetaries, and outdoor recreation; vacant land; places of worship; schools; historic structures; hospitals; and day care/assisted living facilities and those areas within the Day Night Average Sound Level (DNL) 65, 70 and 75 noise contours. Estimates for the area within these contours for the 2016 Base Year and 2021 Future Year are shown in Table 5-1 and Table 5-4 in Chapter 5 of the NEM Report respectively. Estimates of the residential population within the 2016 Base Year and 2021 Future Year noise contours are also shown in Table 5-1 and Table 5-4 in Chapter 5 of the NEM Report respectively. Figure 4-12, in Chapter 4, displays the location of noise monitoring sites. Flight tracks are found in Figures 4-2 through 4-5 of Chapter 4 and detailed in Appedices E and M. The type and frequency of aircraft operations (including nighttime operations) are found in Chapter 4, Tables 4-1 and 4-2.

As discussed in Chapter 6 of the NEM Report, the Port Authority of New York and New Jersey provided the general public the opportunity to review and comment on the NEMs. This public comment period opened on October 26, 2016 and closed on November 28, 2016. Public workshops for the Draft NEMs were held on November 2 and November 3, 2016. All comments received during the public comment period and throughout the development of the NEMs, as well as responses to these comments, are contained in Appendix L of the NEM Report.

The FAA has determined that these noise exposure maps and accompanying documentation are in compliance with applicable requirements. This determination is effective on May 19, 2017.

FAA's determination on an airport operator's noise exposure maps is limited to a finding that the maps were developed in accordance with the procedures contained in Appendix A of FAR Part 150. Such determination does not constitute approval of the applicant's data, information or plans, or a commitment to approve a noise compatibility program or to fund the implementation of that program. If questions arise concerning the precise relationship of specific properties to noise exposure contours depicted on a noise exposure map submitted under Section 47503 of the Act, it should be noted that the FAA is not involved in any way in determining the relative locations of specific properties with regard to the depicted noise contours, or in interpreting the noise exposure maps to resolve questions concerning, for example, which properties should be covered by the provisions of Section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning authorities with which consultation is required under Section 47503 of the Act. The FAA has relied on the certification by the airport operator, under Section 150.21 of FAR Part 150, that the statutorily required consultation has been accomplished.

Copies of the full noise exposure map documentation and of the FAA's evaluation of the maps are available for examination at the following locations:

Federal Aviation Administration, Eastern Region, Airports Division, AEA-600, 1 Aviation Plaza, Jamaica, New York 11434

Federal Aviation Administration, New York Airports District Office, 1 Aviation Plaza, Jamaica, New York 11434

The Port Authority of New York and New Jersey, Aviation Department, 4 World Trade Center, 150 Greenwich Street, 18th Floor, New York, New York 10007

Issued in Jamaica, NY, on May 19, 2017.
Steven M. Urlass,
Director, Airports Division, Eastern Region.

[FR Doc. 2017-11071 Filed 5-26-17; 8:45 am]

BILLING CODE 4910-13-P